Title 3—

The President

Proclamation 7887 of April 15, 2005

National Park Week, 2005

By the President of the United States of America

A Proclamation

America's system of national parks is dedicated to protecting our resources and preserving our cultural and natural treasures. During National Park Week, we celebrate these places and those who work to support and maintain them. This year's National Park Week theme, “National Parks: America's Gift to the World,” reminds us that our country's parks serve as tributes to our Nation's history that are enjoyed by visitors from around the globe.

My Administration is dedicated to ensuring that our national parks remain a source of pride for our citizens, and we are expanding our ability to protect America's historical and natural wonders. By insisting upon management excellence, the National Park Service is ensuring that the most vital maintenance and conservation needs of our parks are met and that resources are spent where they are needed the most.

As we observe National Park Week, we recognize the vital contributions of National Park Service employees and volunteers. These dedicated men and women manage nearly 400 areas, covering more than 84 million acres in 49 states. Together with the 140,000 volunteers who donated over 5 million hours to these sites last year, National Park Service employees ensure that our National Parks are safe and enjoyable places where visitors can experience America.

America's national parks reflect our commitment to protect the land that God has entrusted to our care and to mark the milestones that have made us a better Nation. In being good stewards of these treasures, we maintain the legacy of our country for future generations.

NOW, THEREFORE, I, GEORGE W. BUSH, President of the United States of America, by virtue of the authority vested in me by the Constitution and laws of the United States, do hereby proclaim April 18 through April 24, 2005, as National Park Week. I call upon the people of the United States to join me in recognizing the importance of our national parks and to learn more about these places of beauty, their cultural and historical significance, and the many ways citizens can volunteer to protect and conserve these precious national resources.

IN WITNESS WHEREOF, I have hereunto set my hand this fifteenth day of April, in the year of our Lord two thousand five, and of the Independence of the United States of America the two hundred and twenty-ninth.

B

[FR Doc. 05-8059

Filed 4-19-05; 8:45 am]

Billing code 3195-01-P